DEPARTMENT OF TRANSPORTATION

Federal Aviation Administration

14 CFR Part 39

[Docket No. FAA-2020-0473; Product Identifier 2018-CE-058-AD]

RIN 2120-AA64

Airworthiness Directives; Polskie Zaklady Lotnicze Sp. z o.o. Airplanes

AGENCY: Federal Aviation Administration (FAA), Department of Transportation (DOT).

ACTION: Notice of proposed rulemaking (NPRM).

SUMMARY: The FAA proposes to adopt a new airworthiness directive (AD) for certain Polskie Zaklady Lotnicze Sp. z o.o. Model PZL M28 05 airplanes. This proposed AD results from mandatory continuing airworthiness information (MCAI) originated by an aviation authority of another country to identify and correct an unsafe condition on an aviation product. The MCAI describes the unsafe condition as defective thermo-shrinkable tubes installed on the electrical harnesses located in the fuel tanks. The FAA is proposing this AD to address the unsafe condition on these products.

DATES: The FAA must receive comments on this proposed AD by June 29, 2020.

ADDRESSES: You may send comments by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this proposed AD, contact Polskie Zaklady Lotnicze Sp. z o.o., Wojska Polskiego 3, 39-300 Mielec, Poland, +48 17 743 1901, email: pzl.lm@lmco.com, internet: www.pzlmielec.pl. You may review this referenced service information at the FAA, Airworthiness Products Section, Operational Safety Branch, 901 Locust, Kansas City, Missouri 64106. For information on the availability of this material at the FAA, call (816) 329-4148.

Examining the AD Docket

You may examine the AD docket on the internet at https://www.regulations.gov by searching for and locating Docket No. FAA-2020-0473; or in person at Docket Operations between 9 a.m. and 5 p.m., Monday through Friday, except Federal holidays. The AD docket contains this proposed AD, the regulatory evaluation, any comments received, and other information. The street address for Docket Operations is listed above. Comments will be available in the AD docket shortly after receipt.

FOR FURTHER INFORMATION CONTACT: Doug Rudolph, Aerospace Engineer, FAA, Small Airplane Standards Branch, 901 Locust, Room 301, Kansas City, Missouri 64106; telephone: (816) 329-4059; fax: (816) 329-4090; email: doug.rudolph@faa.gov.

SUPPLEMENTARY INFORMATION:

Comments Invited

The FAA invites you to send any written relevant data, views, or arguments about this proposed AD. Send your comments to an address listed under the ADDRESSES section. Include “Docket No. FAA-2020-0473; Product Identifier 2018-CE-058-AD” at the beginning of your comments. The FAA specifically invites comments on the overall regulatory, economic, environmental, and energy aspects of this proposed AD. The FAA will consider all comments received by the closing date and may amend this proposed AD because of those comments.

The FAA will post all comments we receive, without change, to https://regulations.gov, including any personal information you provide. The FAA will also post a report summarizing each substantive verbal contact received about this proposed AD.

Discussion

The European Aviation Safety Agency (EASA), which is the Technical Agent for the Member States of the European Community, has issued AD No. 2018-0242, dated October 8, 2018 (referred to after this as “the MCAI”), to correct an unsafe condition for the specified products. The MCAI states:

During accomplishment of maintenance on an M28 05 military version airplane, torn pieces of thermo-shrinkable tubes were found in the header section of the main fuel tank. These tubes are installed on electrical harnesses located in the fuel tanks and serve as marking and protection devices against mechanical damage during manufacturing and servicing. Pieces of these tubes may travel with the fuel flow and may block the jet pump or reduce its performance, particularly in the centre-wing fuel tank, in which the jet pump is the only way of further transfer of fuel to the engine. Subsequent investigation determined that degradation of the tube material was caused by a manufacturing deficiency, leading to insufficient material resistance against mechanical damage when a tube is located in a fuel.

This condition, if not detected and corrected, could lead to reduced fuel supply to the engines, inability to use all the fuel in fuel tanks and reduced available engine power, resulting in reduced aeroplane performance.

To address this potentially unsafe condition, PZL identified the batch of aeroplanes that are potentially equipped with thermo-shrinkable tubes having this manufacturing defect, and issued the [service bulletin] SB providing inspection and replacement instructions.

For the reasons described above, this [EASA] AD requires a one-time inspection of the electrical harnesses located in the fuel tanks and, depending on findings, replacement of the affected harness.

Polskie Zaklady Lotnicze Sp. z o.o. informed us the potential for damage to the thermo-shrinkable tubes does not progress with time. Therefore, we determined repetitive inspections are not required. You may examine the MCAI on the internet at https://www.regulations.gov by searching for and locating Docket No. FAA-2020-0473.

Related Service Information Under 1 CFR Part 51

Polskie Zaklady Lotnicze Sp. z o.o. has issued Service Bulletin No. E/12.141/2018, dated May 15, 2018. The service information contains procedures for inspecting the thermo-shrinkable tubes on the electrical harnesses in the center and outer wing fuel tanks for damage and replacing any electrical harness with damaged thermo-shrinkable tubes. This service information is reasonably available because the interested parties have access to it through their normal course of business or by the means identified in the ADDRESSES section.

FAA's Determination and Requirements of the Proposed AD

This product has been approved by the aviation authority of another country, and is approved for operation in the United States. Pursuant to the FAA's bilateral agreement with this State of Design Authority, it has notified the FAA of the unsafe condition described in the MCAI and service information referenced above. The FAA is proposing this AD because it evaluated all information and determined the unsafe condition exists and is likely to exist or develop on other products of the same type design.

Costs of Compliance

The FAA estimates that this proposed AD would affect 15 products of U.S. registry. The FAA also estimates that it would take about 3 work-hours per product to comply with the basic inspection requirement of this proposed AD. The average labor rate is $85 per work-hour.

Based on these figures, the FAA estimates the cost of the proposed AD on U.S. operators to be $3,825, or $255 per product.

In addition, the FAA estimates that any necessary follow-on replacement action would take about 60 work-hours and require parts costing $5,000, for a cost of $10,100 per electrical harness. The FAA has no way of determining the number of products that may need these actions.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Polskie Zaklady Lotnicze Sp. z o.o.: Docket No. FAA-2020-0473; Product Identifier 2018-CE-058-AD.

(a) Comments Due Date

The FAA must receive comments by June 29, 2020.

(b) Affected ADs

None.

(c) Applicability

This AD applies to Polskie Zaklady Lotnicze Sp. z o.o. Model PZL M28 05 airplanes, serial numbers AJE00301 through AJE00343, and AJE00345 through AJE00347, certificated in any category.

(d) Subject

Air Transport Association of America (ATA) Code 28: Fuel Tank.

(e) Reason

This AD was prompted by mandatory continuing airworthiness information (MCAI) originated by an aviation authority of another country to identify and correct an unsafe condition on an aviation product. The MCAI describes the unsafe condition as defective thermo-shrinkable tubes installed on the electrical harnesses located in the fuel tanks. The FAA is issuing this AD to prevent broken pieces of the thermo-shrinkable tubes from blocking the jet pump, reducing fuel supply to the engines, and resulting in the inability to use all the fuel in the fuel tanks. This condition could lead to reduced engine power and airplane performance.

(f) Actions and Compliance

Unless already done, do the following actions in paragraphs (f)(1) and (2) of this AD:

(1) Within the next 200 hours time-in-service (TIS) after the effective date of this AD or within the next 8 months after the effective date of this AD, whichever occurs first:

(i) Inspect each electrical wire harness in the center wing and the left-hand and right-hand outer wing fuel tanks for cracking, tears, and seizing of the thermo-shrinkable tubes in accordance with paragraphs II.1 through 2 a) of the Procedure for Bulletin Execution section in Polskie Zaklady Lotnicze Sp. z o.o. Service Bulletin No. E/12.141/2018, dated May 15, 2018.

(ii) If there is a tear or any cracking in or any seizing of an electrical wire harness thermo-shrinkable tube, before further flight, replace the harness in accordance with section II. a) Replacement of harness KL8 (KP), II. b) Replacement of Harness KL9 (KP9), or II. c) Replacement of harness KL10 (KP10), as applicable, of the Procedure for Bulletin Execution in Polskie Zaklady Lotnicze Sp. z o.o. Service Bulletin No. E/12.141/2018, dated May 15, 2018.

(2) As of the effective date of this AD, do not install any electrical wire harness part number 28.14.7205.073.000, 28.14.7205.074.000, 28.14.7205.075.000, 28.14.7205.076.000, 28.14.7205.077.000, or 28.14.7205.078.000, that has more than zero hours TIS on any airplane, unless it has passed the inspection required by paragraph (f)(1)(i) of this AD.

(g) Alternative Methods of Compliance (AMOCs)

The Manager, Small Airplane Standards Branch, FAA, has the authority to approve AMOCs for this AD, if requested using the procedures found in 14 CFR 39.19. Send information to ATTN: Doug Rudolph, Aerospace Engineer, FAA, Small Airplane Standards Branch, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(h) Related Information

Refer to MCAI European Aviation Safety Agency (EASA) AD No. 2018-0242, dated October 8, 2018, for related information. You may examine the MCAI on the internet at https://www.regulations.gov by searching for and locating Docket No. FAA-2020-0473. For service information related to this AD, contact Polskie Zaklady Lotnicze Sp. z o.o., Wojska Polskiego 3, 39-300 Mielec, Poland, +48 17 743 1901, email: pzl.lm@lmco.com, internet: www.pzlmielec.pl. You may review this referenced service information at the FAA, Airworthiness Products Section, Operational Safety Branch, 901 Locust, Kansas City, Missouri 64106. For information on the availability of this material at the FAA, call (816) 329-4148.

Issued on May 6, 2020.
Gaetano A. Sciortino,
Deputy Director for Strategic Initiatives, Compliance & Airworthiness Division, Aircraft Certification Service.

[FR Doc. 2020-10015 Filed 5-13-20; 8:45 am]

BILLING CODE 4910-13-P